DEPARTMENT OF DEFENSE

Office of the Secretary

[Transmittal Nos. 12-02]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-02 with attached transmittal, policy justification and sensitivity of technology.

Dated: December 31, 2012.
Aaron Siegel,
Alternate OSD Federal Register Liaison Officer, Department of Defense.

BILLING CODE 5001-06-P

BILLING CODE 5001-06-C

Transmittal No. 12-02

Notice of Proposed Issuance of Letter of Offer Pursuant to Section 36(b)(1) of the Arms Export Control Act, as amended

(i) Prospective Purchaser: Republic of Korea

(ii) Total Estimated Value:

Major Defense Equipment* | $.687 billion
Other | $.513 billion
Total | $1.2 billion
* as defined in Section 47(6) of the Arms Export Control Act.

(iii) Description and Quantity or Quantities of Articles or Services under Consideration for Purchase: four (4) RQ-4 Block 30 (I) Global Hawk Remotely Piloted Aircraft with the Enhanced Integrated Sensor Suite (EISS). The EISS includes infrared/electro-optical, synthetic aperture radar imagery and ground moving target indicator. The ground segment includes a mission control element and a launch and recovery element. Also included is an imagery intelligence exploitation system, test equipment, ground support, operational flight test support, communications equipment, spare and repair parts, personnel training, publications and technical data, U.S. Government and contractor technical and logistics support services, and other related elements of logistics support.

(iv) Military Department: Air Force (SAC)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 21 December 2012

POLICY JUSTIFICATION

Republic of Korea—RQ-4 Block 30 (I) Global Hawk Remotely Piloted Aircraft

The Government of the Republic of Korea (ROK) has requested a possible sale of four (4) RQ-4 Block 30 (I) Global Hawk Remotely Piloted Aircraft with the Enhanced Integrated Sensor Suite (EISS). The EISS includes infrared/electro-optical, synthetic aperture radar imagery and ground moving target indicator, mission control element, launch and recovery element, signals intelligence package, an imagery intelligence exploitation system, test equipment, ground support, operational flight test support, communications equipment, spare and repair parts, personnel training and training equipment, publications and technical data, U.S. Government and contractor technical and logistics support services, and other related elements of logistics support. The estimated cost is $1.2 billion.

This proposed sale will contribute to the foreign policy goals and national security objectives of the United States by meeting the legitimate security and defense needs of an ally and partner nation. The Republic of Korea continues to be an important force for peace, political stability, and economic progress in North East Asia.

The ROK needs this intelligence, surveillance and reconnaissance (ISR) capability to assume primary responsibility for intelligence gathering from the U.S.-led Combined Forces Command. The transfer from the U.S. to the ROK of wartime operational control over Korean forces will occur in 2015. The proposed sale of the RQ-4 will significantly enhance the ROK's ISR capabilities and help ensure the alliance is able to continue to monitor and deter regional threats. The ROK will have no difficulty absorbing these systems into its armed forces.

The proposed sale of this system will not alter the basic military balance in the region.

The principal contractor will be Northrop Grumman Corporation in Rancho Bernardo, California. The purchaser requested offsets but at this time agreements are undetermined and will be defined in negotiations between the purchaser and contractor.

Implementation of this proposed sale will require the assignment contractor representatives to Korea to perform contractor logistics support and to support required enhanced end use monitoring (EEUM) activities.

There will be no adverse impact on U.S. defense readiness as a result of this proposed sale.

Transmittal No. 12-02

Notice of Proposed Issuance of Letter of Offer Pursuant to Section 36(b)(1) of the Arms Export Control Act

Annex

Item No. vii

(vii) Sensitivity of Technology:

1. The RQ-4 Block 30 Global Hawk hardware and software are Unclassified. The highest level of classified information required for operation may be Secret depending on the classification of the imagery or Signals Intelligence (SIGINT) utilized on a specific operation. The RQ-4 is optimized for long range and prolonged flight endurance. It is capable of fully autonomous operations once programmed by the ground stations, including fully automatic taxi, take-off, flight data collection, and recovery. It is used for military intelligence, surveillance, and reconnaissance. Aircraft system, sensor, and navigational status are provided continuously to the ground operators through a health and status downlink for mission monitoring. The navigation and sensor plan can by dynamically updated in-flight through any of the redundant data links. Data links can be an X-Band Line of Sight communication or Ku-Band Over-the-Horizon Satellite Communications. The air vehicle has multiple contingency modes to provide safe, predictable operation in the event of lost data links, mission critical equipment, or flight critical equipment. Navigation is via inertial navigation with integrated global positioning system (GPS) updates. Taxi, take-off, and landing accuracy are enhanced with dual radio altimeters and Differential GPS. The vehicle is capable of operating from a standard paved runway. Real time missions are flown under the control of a pilot in a Mission Control Element. It is designed to carry a non-weapons internal payload of 3,000 lbs consisting primarily of sensors and avionics. The following payloads are integrated into the RQ-4: Enhanced Imagery Sensor Suite that includes multi-use infrared, electro-optical, ground moving target indicator, and synthetic aperture radar and a space to accommodate other sensors, such as SIGINT. The RQ-4 will include the following components:

a. The Mission Control Element (MCE) is the RQ-4 Global Hawk ground control station for mission planning, communication management, aircraft and mission control, and image processing and dissemination. It can be either fixed or mobile. In addition to the shelter housing the operator workstations, the MCE includes an optional 6.25 meter Ku-Band antenna assembly, a Tactical Modular Interoperable Surface Terminal, a 12-ton Environmental Control Unit (heating and air conditioning), and two 100 kilowatt electrical generators. The MCE, technical data, and documentation are Unclassified. The MCE may operate at the classified level depending on the classification of the data feeds.

b. The Launch and Recovery Element (LRE) is a subset of the MCE and can be either fixed or mobile. It provides identical functionality for mission planning and air vehicle C2. The launch element contains a mission planning workstation and a C2 workstation. The primary difference between the LRE and MCE is the lack of any wide-band data links or image processing capability within the LRE and navigation equipment at the LRE to provide the precision required for ground operations, take-off, and landing. The LRE, technical data, and documentation are Unclassified.

2. If a technologically advanced adversary were to obtain knowledge of the specific hardware and software elements, the information could be used to develop countermeasures that might reduce weapon system effectiveness or be used in the development of a system with similar or advanced capabilities.

[FR Doc. 2012-31722 Filed 1-3-13; 8:45 am]

BILLING CODE 5001-06-C